DEPARTMENT OF ENERGY

Office of Energy Efficiency and Renewable Energy

Biomass Research and Development Technical Advisory Committee

AGENCY: Office of Energy Efficiency and Renewable Energy, Department of Energy.

ACTION: Notice of open meeting.

SUMMARY: This notice announces an open meeting of the Biomass Research and Development Technical Advisory Committee under the Biomass Research and Development Act of 2000. The Federal Advisory Committee Act (Pub. L. 92-463, 86 Stat. 770) requires that agencies publish these notices in the Federal Register to allow for public participation.

DATES: August 10, 2006 at 8:30 a.m.

ADDRESSES: California Energy Commission, Hearing Room A, 1516 Ninth Street, MS-29, Sacramento, CA 95814.

FOR FURTHER INFORMATION CONTACT: Neil Rossmeissl, Designated Federal Officer for the Committee, Office of Energy Efficiency and Renewable Energy, U.S. Department of Energy, 1000 Independence Avenue, SW., Washington, DC 20585; (202) 586-8668 or Harriet Foster at (202) 586-4541; e-mail: harriet.foster@ee.doe.gov.

SUPPLEMENTARY INFORMATION: Purpose of Meeting: To provide advice and guidance that promotes research and development leading to the production of biobased fuels and biobased products.

Tentative Agenda: Agenda will include the following:

• Receive update on collaboration with USDA.

• Review status of 2005 Annual Report.

• Receive an update on the status and awardees of the FY 2006 joint solicitation.

• Receive an update on the status of the FY 2007 joint solicitation.

• Review status of Vision and Roadmap updates.

• Meet with representatives from California Energy Commission.

• Discuss Analysis, Policy, and other subcommittee business.

• Approve 2006 Recommendations to Secretaries.

• Receive information on Federal Advisory Committees relevant to biomass.

• Discuss 2007 meeting schedule.

Public Participation: In keeping with procedures, members of the public are welcome to observe the business of the Biomass Research and Development Technical Advisory Committee. To attend the meeting and/or to make oral statements regarding any of the items on the agenda, you should contact Neil Rossmeissl at 202-586-8668 or the Biomass Initiative at 202-586-4541 or harriet.foster@ee.doe.gov (e-mail). You must make your request for an oral statement at least 5 business days before the meeting. Members of the public will be heard in the order in which they sign up at the beginning of the meeting. Reasonable provision will be made to include the scheduled oral statements on the agenda. The Chair of the Committee will make every effort to hear the views of all interested parties. If you would like to file a written statement with the Committee, you may do so either before or after the meeting. The Chair will conduct the meeting to facilitate the orderly conduct of business.

Minutes: The minutes of the meeting will be available for public review and copying at the Freedom of Information Public Reading Room; Room 1E-190; Forrestal Building; 1000 Independence Avenue, SW., Washington, DC, between 9 a.m. and 4 p.m., Monday through Friday, except Federal holidays.

Issued at Washington, DC, on July 13, 2006.
Rachel M. Samuel,
Deputy Advisory Committee Management Officer.

[FR Doc. E6-11336 Filed 7-17-06; 8:45 am]

BILLING CODE 6450-01-P